DEPARTMENT OF ENERGY

Federal Energy Regulatory Commission

[Project No., 2232-610]

Duke Energy Carolinas, LLC; Notice of Effectiveness of Withdrawal of Rehearing Request

On August 11, 2009, Duke Energy Carolinas, LLC (Duke Energy), filed a petition asking the Commission to declare that the state of South Carolina has waived its water quality certification for the relicensing of Duke Energy's Catawba-Wateree Hydroelectric Project No. 2232. On April 17, 2014, the Commission denied the petition.¹ On May 16, 2014, Duke Energy filed a request for rehearing. By delegated order issued June 16, 2014, rehearing was granted for the limited purpose of further consideration.

¹ Duke Energy Carolinas, LLC, 147 FERC ¶ 61,037.

On August 5, 2014, based on an agreement among Duke Energy, two environmental stakeholders, and South Carolina's water quality agency, Duke Energy filed a motion to stay deliberation on the rehearing request. On February 18, 2015, having received a final water quality certification from the state, Duke Energy filed a notice of withdrawal of its rehearing request.

Pursuant to Rule 216 of the Commission's Rules of Practice and Procedure,² the withdrawal of any pleading is effective at the end of 15 days from the date the notice of withdrawal is filed if, within that period, no motion in opposition to the notice is filed and the Commission takes no action disallowing withdrawal. The 15-day period closed on March 5, 2015. No such pleading was filed, and the Commission took no such action. Accordingly, Duke Energy's rehearing request is withdrawn and this proceeding is thereby terminated.

² 18 CFR 385.216 (2014).

Dated: March 6, 2015.
Nathaniel J. Davis, Sr.,
Deputy Secretary.

[FR Doc. 2015-05871 Filed 3-13-15; 8:45 am]

BILLING CODE 6717-01P